DEPARTMENT OF VETERANS AFFAIRS

[OMB Control No. 2900-0567]

Agency Information Collection Activity Under OMB Review: Presidential Memorial Certificate Form

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden; it includes the actual data collection instrument.

DATES: Comments must be submitted on or before May 4, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0567” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0567” in any correspondence.

SUPPLEMENTARY INFORMATION: Title: Presidential Memorial Certificate Form VA Form 40-0247.

OMB Control Number: 2900-0567.

Type of Review: Revision of a currently approved collection.

Abstract: The National Cemetery Administration (NCA) made updates to its current VA Form 40-0247. The original VA Form 40-0247 is for requests for initial copies of a Presidential Memorial Certificates (PMC's). The updates to the form would include the following changes with no additional respondent burden:

• Format changes

• SSN or Military Service Number from discharge Documents

• Mailing address, email address, telephone and fax number updates

• Wording changed to allow the public to also use the form for first time requests

Upon appropriate approval, the NCA Web site will display the updated version of the VA Form 40-0247 for public use.

An agency may not conduct or sponsor, and a person is not required to respond to a collection of information unless it displays a currently valid OMB control number. The Federal Register Notice with a 60-day comment period soliciting comments on this collection of information was published at 82 FRN 06728 on January 19, 2017.

Affected Public: 125,000.

Estimated Annual Burden: 6,250 hours.

Estimated Average Burden Per Respondent: 3 minutes each.

Frequency of Response: One-time.

Estimated Number of Respondents: 125,000.

Authority: 44 U.S.C. 3501-3521.

By direction of the Secretary.
Cynthia Harvey-Pryor,
Department Clearance Officer, Enterprise Records Service, Office of Quality and Compliance, Department of Veterans Affairs.

[FR Doc. 2017-06574 Filed 4-3-17; 8:45 am]

BILLING CODE 8320-01-P